DEPARTMENT OF LABOR

Office of the Secretary, DOL.

Agency Information Collection Activities; Submission for OMB Review; Comment Request; Workforce Innovation and Opportunity Act Common Performance Reporting

ACTION: Notice.

SUMMARY: The Department of Labor (DOL) is submitting the Employment and Training Administration (ETA) sponsored information collection request (ICR) proposal titled, “Workforce Innovation and Opportunity Act Common Performance Reporting,” to the Office of Management and Budget (OMB) for review and approval for use in accordance with the Paperwork Reduction Act (PRA) of 1995 (44 U.S.C. 3501 et seq.). Public comments on the ICR are invited.

DATES: The OMB will consider all written comments that agency receives on or before May 26, 2016.

ADDRESSES: A copy of this ICR with applicable supporting documentation; including a description of the likely respondents, proposed frequency of response, and estimated total burden may be obtained free of charge from the RegInfo.gov Web site at http://www.reginfo.gov/public/do/PRAViewICR?ref_nbr=201604-1205-002 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: This ICR seeks PRA authority for the Workforce Innovation and Opportunity Act (WIOA) Common Performance Reporting information collection that fulfills WIOA section 116(d)(1) requirements for the development of report templates for the State Performance Report for WIOA core programs, the Local Area Performance Report, and the Eligible Training Provider (ETP) Report (Display-Only). See 29 U.S.C. 3141(d)(1). A proposed design for the public facing display of the ETP Performance Report is also included in this ICR. While not proposing a format that persons participating in WIOA covered programs must follow, as these process decisions may be best left to State agencies that may have additional needs, the ICR does recognize that performance reporting may require the collection of information that would not otherwise be obtained; consequently, the agencies have estimated the impact of those activities on individuals and States. WIOA section 185 authorizes this information collection. See 29 U.S.C. 3245.

This ICR does not include the specifics on the data collection format (e.g., a spreadsheet, comma delimited text file, or other application program interface) that must be used to submit the data to the DOL (e.g., through an online portal). That feature will be the subject of a future ICR, and public comment will be solicited at that time.

This ICR is being submitted to OMB for review, comment, and approval under a process that will subsequently allow other agencies to use this ICR. The Department of Education is also engaged in the collection of WIOA performance data, and the two Departments have worked collaboratively to develop this ICR. In accordance with the PRA and guidance provided by OMB for common form types of collections used by more than one agency, Reginfo.gov database burden information is to reflect that only for host agency (DOL in this case) when the collection is first submitted; consequently, this notice also reflects only the DOL burden. In order to present a more complete view for public comment, however, the supporting statement discusses total burdens—including that for the Department of Education. Under the common form data collection type, the DOL burden must first be approved by OMB with other agency burden added by OMB through a change request process once the common form has been cleared.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notices published in the Federal Register on April 16, 2015 (80 FR 20573), and July 22, 2015 (80 FR 43474).

Interested parties are encouraged to send comments to the OMB, Office of Information and Regulatory Affairs at the address shown in the ADDRESSES section within thirty (30) days of publication of this notice in the Federal Register. In order to help ensure appropriate consideration, comments should mention OMB ICR Reference Number 201604-1205-002.

While comments on any aspect of this ICR are welcome, specific comments are sought on ETP terms definitions and corresponding calculations of WIOA performance measures as they relate to the ETP report. Comments are also sought on the proposed method for calculating the total number of individuals served in a program of study. The OMB is also particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Workforce Innovation and Opportunity Act Common Performance Reporting.

OMB ICR Reference Number: 201604-1205-002.

Affected Public: State, Local, and Tribal Governments; Individuals or Households.

Total Estimated Number of Respondents: 15,489,620.

Total Estimated Number of Responses: 30,969,570.

Total Estimated Annual Time Burden: 7,965,526 hours.

Total Estimated Annual Other Costs Burden: $25,848,060.

Dated: April 20, 2016.
Michel Smyth,
Departmental Clearance Officer.

[FR Doc. 2016-09637 Filed 4-25-16; 8:45 am]

BILLING CODE 4510-FN-P